ENVIRONMENTAL PROTECTION AGENCY

[OPP-00693; FRL-6762-2]

Pesticides; Final Guidance for Pesticide Registrants on Applicability of the Treated Articles Exemption to Antimicrobial Pesticides

AGENCY: Environmental Protection Agency (EPA).

ACTION: Notice of availability.

SUMMARY: The Agency is issuing PR Notice 2000-10 which extends the effective date of when it will begin to rely upon PR Notice 2000-1 (issued March 6, 2000). PR Notice 2000-1 provides guidance on the applicability of the “treated articles exemption” in 40 CFR 152.25(a) to antimicrobial pesticide products.

FOR FURTHER INFORMATION CONTACT: Jeff Kempter (7510C), Environmental Protection Agency, 1200 Pennsylvania Ave., NW., Washington, DC 20460; telephone number: (703) 305-5448; fax number: (703) 308-6467; e-mail address: kempter.carlton@epa.gov.

SUPPLEMENTARY INFORMATION:

I. General Information

A. Does this Action Apply to Me?

This action is directed to the public in general. This action may be of particular interest to those persons who produce pesticides or who produce articles treated with pesticides. Since other entities may also be interested, the Agency has not attempted to describe all the specific entities that may be affected by this action. If you have any questions regarding the information in this notice, consult the person listed under FOR FURTHER INFORMATION CONTACT.

B. How Can I Get Additional Information, Including Copies of this Document and Other Related Documents?

1. Electronically. You may obtain electronic copies of this document and the PR Notice from the Office of Pesticide Programs' Home Page at http://www.epa.gov/pesticides/. You can also go directly to the listings from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-00693. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

II. Background

A. What Guidance Does this PR Notice Provide?

On March 6, 2000, the Agency issued PR Notice 2000-1 concerning the applicability of the “treated articles exemption” in 40 CFR 152.25(a) to antimicrobial pesticide products. The intent of that notice was to clarify current Agency policy with respect to the scope of the treated articles exemption. Specifically, the notice addressed the types of claims which are or are not permitted on treated articles, and explained the requirement that the pesticide in a treated article be “registered for such use.”

Section VI of PR Notice 2000-1, titled “Effective Date and Procedures,” encouraged producers, distributors, and other persons selling or distributing pesticide-treated articles and substances to bring their products into compliance with 40 CFR 152.25(a). That section also indicated that the Agency would begin to rely on the guidance provided in that notice on February 11, 2001, and that products in commerce after that date which make statements or claims that do not reflect the clarifications offered in that notice, would risk being considered out of compliance with 40 CFR 152.25(a).

The Agency has since learned that certain segments of the industry which produce treated articles will not be able to meet the February 11, 2001 date, both in production of treated articles and in their sale and distribution in commerce. Further, the Agency is concerned that some distributors of treated articles may not be aware that their products are subject to PR Notice 2000-1 due to the fact that the notice was sent primarily to registrants and not generally to the distributors of treated articles. Finally, the Agency is concerned that the current date of February 11, 2001, and the inclusion of all treated articles in commerce could have an unintended adverse economic impact on affected companies.

For these reasons, the Agency is extending the effective date of when it will begin to rely upon PR Notice 2000-1 from February 11, 2001 to April 30, 2001. In addition, the Agency is changing the guidance in that notice such that treated articles produced on or before April 30, 2001, may continue to be sold or distributed by anyone through commerce without being subject to the clarifying guidance in PR Notice 2000-1. Thus, only treated articles produced after April 30, 2001, which make statements or claims that do not reflect the clarifications offered in that notice, would risk being out of compliance with 40 CFR 152.25(a). Producers of treated articles produced on or before April 30, 2001, would need to be able to provide adequate documentation of the production date of such articles found in commerce. All other elements of PR Notice 2000-1, as well as the current enforcement approach, will remain as stated or referenced in that notice.

B. PR Notices are Guidance Documents

The PR Notice discussed in this notice is intended to provide guidance to EPA personnel, the public, pesticide registrants, and producers of pesticide-treated articles. This notice is not binding on EPA, pesticide registrants, or treated article producers, and EPA may depart from the guidance where circumstances warrant and without prior notice. Likewise, pesticide registrants and treated article producers may assert that the guidance is not appropriate generally or not applicable to a specific pesticide, treated article, or situation.

List of Subjects

Environmental protection, Administrative practice and procedure, Agricultural commodities, Pesticides, Antimicrobials, and pests.

Dated: December 20, 2000.
Marcia E. Mulkey,
Director, Office of Pesticide Programs.

[FR Doc. 00-33172 Filed 12-27-00; 8:45 am]

BILLING CODE 6560-50-S